SMALL BUSINESS ADMINISTRATION

Data Collection Available for Public Comments.

ACTION: 60-day notice and request for comments.

SUMMARY: The Small Business Administration (SBA) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before April 15, 2014.

ADDRESSES: Send all comments to Justine Alston, Financial Analyst, Office of Financial Assistance, Small Business Administration, 409 3rd Street, 8th Floor, Washington, DC 20416.

FOR FURTHER INFORMATION CONTACT: Justine Alston, Financial Analyst, 202-205-7623, Justin.alston@sba.gov, or Curtis B. Rich, Management Analyst, 202-205-7030, curtis.rich@sba.gov.

SUPPLEMENTARY INFORMATION: Small Business Administration (SBA) has established a loan program, the immediate Disaster Assistance Program, (IDAP) to assist small businesses affected by a federally declared disaster or economic disaster. The program will provide guaranteed loan through 7(a) lenders participating in IDAP to cover the short time frame between the data of the disaster damage and a small business. This requested information, which will be provided by the affected small businesses and IDAP participating lenders, will be used to determine eligibility for an IDAP loan and participation in the program.

Summary of Information Collection

Title: Immediate Disaster Assistance Loan Program Application and Eligibility.

Description of Respondents: IDAP participating lenders.

Total Estimated Annual Responses: 984.

Total Estimated Annual Hour Burden: 543.

Curtis B. Rich,
Management Analyst.

[FR Doc. 2014-03319 Filed 2-13-14; 8:45 am]

BILLING CODE P